DEPARTMENT OF TRANSPORTATION

Federal Aviation Administration

[Docket No.: FAA-2025-0906]

Experimental Aircraft “All Makes and Models” Program

AGENCY: Federal Aviation Administration (FAA), Department of Transportation (DOT).

ACTION: Notice; request for comment.

SUMMARY: This notice informs operators of certain experimental aircraft of a new program that enables certain pilots to receive authorization to act as pilot in command (PIC) of certain experimental aircraft by completing aircraft-specific ground and flight training without taking a practical test. The FAA implements this program in accordance with section 806 of the FAA Reauthorization Act of 2024. While the Experimental Aircraft All Makes and Models Program is effective upon the date of this notice, FAA seeks comments on the implementing guidance for future consideration.

DATES: Comments on this petition must identify the petition docket number and must be received on or before June 9, 2025.

ADDRESSES: Send comments identified by docket number FAA-2025-0906 using any of the following methods:

Federal eRulemaking Portal: Go to https://www.regulations.gov and follow the online instructions for sending your comments electronically.

Mail: Send comments to Docket Operations, M-30; U.S. Department of Transportation, 1200 New Jersey Avenue SE, Room W12-140, West Building Ground Floor, Washington, DC 20590-0001.

Hand Delivery or Courier: Take comments to Docket Operations in Room W12-140 of the West Building Ground Floor at 1200 New Jersey Avenue SE, Washington, DC 20590-0001, between 9 a.m. and 5 p.m., Monday through Friday, except Federal holidays.

Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: David Menzimer at (202) 267-1100, Flight Standards Service, Federal Aviation Administration, 800 Independence Avenue SW, Washington, DC 20591.

SUPPLEMENTARY INFORMATION:

Background

Some experimental aircraft operating limitations require a pilot to hold an authorization to act as PIC; a type rating, an Authorized Experimental Aircraft (AEA) authorization (formerly called a letter of authorization (LOA)), or a temporary LOA.¹ AEAs can be obtained by completing specialized training and testing, similar to that required to obtain a type rating, which authorizes a pilot to act as PIC of a specific make and model experimental aircraft. In section 806 of the FAA Reauthorization Act of 2024 (Public Law (Pub. L.) 118-63), Congress mandated that the Federal Aviation Administration (FAA) take such action as may be necessary to authorize pilots who hold three AEAs in high-performance single- or multi-engine piston aircraft to act as PIC of these aircraft by completing aircraft specific ground and flight training, only, without completing a practical test in the subsequent aircraft. FAA will facilitate this through FAA Order 8900.1; therefore, this publication serves as notice that volume 5, chapter 9, section 7 of FAA Order 8900.1 now sets forth the parameters and related information pertaining to the Experimental Aircraft “All Makes and Models” Program.

¹ See Operation Limitation #8 of FAA Order 8130.2K.

Prior policy allowed for an “All Makes and Models” authorization and subsequent AEAs to be issued on a person's pilot certificate after submitting an FAA Form 8710-1, Airman Certificate and/or Rating Application, and documentation of the completed training requirements to the FAA. However, to reduce the burden and increase efficiency for the regulated community, and to reduce costs to the FAA, pilots who hold three AEAs on their pilot certificate and seek to operate additional experimental aircraft in accordance with this program will no longer send an application or documentation to the FAA. Additional authorizations issued in accordance with this program will no longer be listed on the pilot certificate.

Instead, authorizations added in accordance with this program will be issued in the form of a logbook endorsement by the authorized instructor who provided the training.

Pilots who do not yet hold the requisite three AEAs on their pilot certificate will continue to reference the process outlined in FAA Order 8900.1, volume 5, chapter 9, section 2, Airman Qualification Requirements for Aircraft for Which the Operating Limitations Require an FAA-Issued Authorization to Act as Pilot in Command, to obtain an AEA. Likewise, pilots may continue to add additional AEAs in accordance with that process and are not required to utilize this new program.

Relatedly, FAA is simultaneously updating the aforementioned operating limitation to add an endorsement as a means of compliance to meet the operating limitation, as appropriate. In other words, currently, the operating limitation explicitly recognizes the AEA as a pilot authorization; FAA simultaneously revises the operating limitation through a deviation memo to FAA Order 8130.2K to include an endorsement as a pilot authorization. FAA notes that because previously-issued airworthiness certificate operating limitations specify that pilots must hold a model-specific type rating, AEA, or temporary LOA, persons seeking to utilize this new program (i.e., procure the aforementioned endorsement) must first apply for an amended airworthiness certificate with an operating limitation that allows for such endorsement.²

² Persons seeking an amended airworthiness certificate may reach out to their local Flight Standards District Office, Certificate Management Section, or Designee, as appropriate. Issuers will utilize FAA Order 8130.2, Airworthiness Certification of Aircraft, for issuance of an amended airworthiness certificate.

Summary of Program

As specified in volume 5, chapter 9, section 7 of FAA Order 8900.1, for authorizations issued in accordance with this program, the trainee must:

• Hold at least three AEAs in high-performance single-engine piston or high-performance multi-engine piston aircraft (as appropriate to the endorsement sought).

• Receive the same ground and flight training required to obtain an AEA from an authorized instructor (see volume 5, chapter 9, section 2, subparagraph 5-1582B, Training Requirements).

• Receive a logbook endorsement from the authorized instructor who provided the training stating the following: “I certify that [John Doe, certificate number] holds at least three [high-performance single-engine piston or high-performance multi-engine piston (instructors must choose the option appropriate to the endorsement sought)] Authorized Experimental Aircraft (AEA) authorizations, has received the required ground and flight training, and is proficient to act as PIC of [make/model] experimental aircraft.”

Pilots seeking an endorsement in accordance with this program must hold an instrument rating. If the aircraft used for the training is not equipped such that the applicant can demonstrate instrument skills, the instructor will place a limitation on the endorsement noting “VFR ONLY.”

Inviting Comments

The FAA is requesting comments on the new program described herein. A copy of the associated guidance is being posted for review to Docket No.: FAA-2025-0906. The new program may be revised based on comments received.

Issued in Washington, DC.
Robert M. Ruiz,
Deputy Executive Director, Flight Standards Service.

[FR Doc. 2025-08167 Filed 5-8-25; 8:45 am]

BILLING CODE 4910-13-P